DEPARTMENT OF AGRICULTURE

Food and Nutrition Service

7 CFR Parts 271 and 273

RIN 0584-AE33

Supplemental Nutrition Assistance Program (SNAP): Employment and Training Program Monitoring, Oversight and Reporting Measures

AGENCY: Food and Nutrition Service, USDA.

ACTION: Interim rule.

SUMMARY: Section 4022 of the Agricultural Act of 2014 requires that, not later than 18 months after the date of enactment, USDA (the Department) shall issue an interim final rule implementing the amendments made by subsection (a)(2). Pursuant to that requirement, this rule implements the employment and training (E&T) provisions of section 4022(a)(2) of the Agricultural Act of 2014. Section 4022(a)(2) of the Agricultural Act of 2014 provides the Department additional oversight authority of State agencies' administration of the Supplemental Nutrition Assistance Program (SNAP) E&T program. In addition, it requires the Department to develop national reporting measures and for State agencies to report outcome data to the Department. It also requires that the Department monitor and assess State agencies' E&T programs, and provides the Department with the authority to require State agencies to make improvements to their programs as necessary. Finally, State agencies are required to submit reports on the impact of certain E&T components and, in certain States, the E&T services provided to able-bodied adults without dependents (ABAWDs).

DATES: Effective Date: This rule will become effective May 23, 2016.

Implementation Date: Upon clearance by OMB of the associated information collection requirements, States shall include reporting measures in the E&T State Plans for the first full fiscal year that begins not earlier than September 20, 2016.

Comment Date: Written comments must be received on or before May 23, 2016.

ADDRESSES: The Food and Nutrition Service (FNS) invites interested persons to submit comments on this interim rule. Comments may be submitted by any of the following methods:

Federal eRulemaking Portal: Preferred method. Go to http://www.regulations.gov; follow the online instructions for submitting comments.

FAX: Submit comments by facsimile transmission to (703) 305-2486, attention: Moira Johnston, Director, Office of Employment and Training, SNAP.

Web site: Go to http://www.fns.usda.gov. Follow the online instructions for submitting comments through the link at the SNAP Web site.

Email: Send comments to SNAP-Ed@fns.udsa.gov. Include Docket ID Number FNS-2011-0026, Supplemental Nutrition Assistance Program: Employment and Training Employment and Training Program Monitoring, Oversight and Reporting Measures Interim Rule in the subject line of the message.

Mail: Send comments to Moira Johnston, Director, Office of Employment and Training, SNAP, FNS, U.S. Department of Agriculture, 3101 Park Center Drive, Room 806, Alexandria, Virginia 22302.

Hand delivery or Courier: Deliver comments to Ms. Johnston at the above address. All comments on this interim rule will be included in the record and will be made available to the public. Please be advised that the substance of the comments and the identity of the individuals or entities submitting the comments will be subject to public disclosure. The Department will make the comments publicly available on the Internet via http://www.regulations.gov.

FOR FURTHER INFORMATION CONTACT: Moira Johnston, Director, Office of Employment and Training, at the above address or by telephone at (703) 305-2515.

SUPPLEMENTARY INFORMATION:

What acronyms or abbreviations are used in this supplementary discussion?

In the discussion of the provisions in this rule, the following acronyms or other abbreviations stand in for certain words or phrases:

Phrase | Acronym, abbreviation, or symbol
Able-Bodied Adults Without Dependents | ABAWDs.
Code of Federal Regulations | CFR.
Employment and Training | E&T.
Federal Register | FR.
Federal Fiscal Year | FY.
Food and Nutrition Act of 2008, as amended | the FNA.
Food and Nutrition Service | FNS.
Food, Conservation and Energy Act of 2008 (Pub. L. 110-246) | FCEA.
Secretary of the U.S. Department of Agriculture | Secretary.
Section (when referring to Federal Regulations) | §.
Supplemental Nutrition Assistance Program | SNAP.
U.S. Department of Agriculture | the Department.
U.S. Department of Labor | DOL.
Workforce Innovation and Opportunity Act | WIOA.

Background

What is the SNAP E&T program?

Section 6(d)(4) of the FNA requires that each State agency implement an E&T program designed to help members of SNAP households gain skills, training, employment, or experience that increase participants' ability to obtain regular employment. State agencies may include one or more of the following components in their E&T program: Job search, job search training, workfare, work experience, work training, basic education programs, self-employment training programs, job retention services, and other programs as approved by the Secretary. State agencies submit E&T plans that outline planned components and budgets to FNS for approval annually.

How is SNAP E&T funded?

The Department funds SNAP E&T programs through $90 million in E&T grants and an additional $20 million in grants for State agencies that pledge to serve all ABAWDs at-risk of losing eligibility due to time-limited participation. In addition to these grants, the Department reimburses State agencies for 50 percent of approved administrative costs beyond the E&T grant and for 50 percent of allowable participant expenses, such as transportation and dependent care.

Is participation in SNAP E&T mandatory?

SNAP work registrants not otherwise exempted by the State agency must participate in a SNAP E&T component if referred by the State agency. E&T programs may be mandatory or voluntary. In a mandatory program, failure to comply without good cause, results in disqualification from SNAP for a minimum sanction period which can vary depending upon State policy. Except in the case of permanent disqualification, an individual may resume SNAP participation after the sanction period expires and/or the individual complies with work requirements (whichever is later). State agencies may also serve voluntary E&T participants. Voluntary E&T participants are not subject to disqualification from SNAP for failure to comply with a SNAP E&T component.

The Agricultural Act of 2014

This interim rule implements section 4022(a)(2) of the Agricultural Act of 2014. Even though the reporting requirements of this rule must be implemented by the beginning of first full fiscal year 180 days after publication of this rule, the Department is soliciting comments on this rule. The Department believes that it would benefit from the public's comments before publishing a final rule.

Why is the Department publishing this interim rule rather than a proposed and then final rule?

Section 4022(a)(3)(A) of the Agricultural Act of 2014 requires that “Not later than 18 months after the date of enactment of this Act, the Secretary shall issue interim final regulations implementing the amendments made by subsection (a)(2).”

What does the Agricultural Act of 2014 require in regards to SNAP E&T?

Section 4022 of the Agricultural Act of 2014 amends section 16(h)(5) of the FNA, to provide that:

• The Department develop standardized reporting measures for E&T programs;

• States agencies' annual E&T plans must identify additional reporting measures for each E&T component that is intended to serve at least 100 participants a year;

• The Department monitor State E&T programs and assess their effectiveness;

• State agencies submit an annual report on their E&T programs that includes the number of participants who have gained skills, training, work, or experience that will increase their ability to obtain regular employment;

• The Department may require a State agency to make modifications to its E&T plan if it determines that the State agencies' E&T outcomes are inadequate.

These provisions will provide the Department with more information about the States with effective SNAP E&T programs and promising practices, and help identify those States that need technical assistance to improve their programs.

Section 4022 of the Agricultural Act of 2014 also requires the Department to carry out up to 10 SNAP E&T pilot projects and to evaluate the SNAP E&T program nationally at least once every five years. This interim rule does not address these last two issues.

Reporting Measures

What does Section 4022(a)(2) of the Agricultural Act of 2014 require the Department to do in developing national reporting measures?

Section 4022(a)(2) amended section 16(h)(5)(B)(i) and (ii) of the FNA to require the Department to develop national reporting measures for States within the following requirements:

• The Department, in consultation with the Secretary of Labor, must develop State reporting measures that identify improvements in the skills, training, education, or work experience of members of households participating in SNAP;

• The measures must be based on common measures of performance for Federal workforce training programs; and

• The measures must include additional indicators that reflect the challenges facing the types of members of households participating in SNAP who participate in a specific E&T component.

Has the Department consulted with the Department of Labor (DOL) in the development of this rule?

Yes. In addition to consulting with and reviewing DOL's current performance measures, the Department examined and discussed the performance indicators included in WIOA (visit http://www.doleta.gov/wioa/ for more information on this legislation).

What national reporting measures does this rule establish?

After consultation with the DOL, the Department is establishing the following national reporting measures and requiring State agencies to report outcome data based on these measures. These reporting measures are similar to the performance indicators for the core programs in WIOA, but reflect the intent of the Agricultural Act of 2014, the unique characteristics of the SNAP E&T program and its participants, the required frequency of reporting, and how the Department will use the data. The reporting measures include:

• The number and percentage of E&T participants and former participants who are in unsubsidized employment during the second quarter after completion of participation in E&T;

• The number and percentage of E&T participants and former participants who are in unsubsidized employment during the fourth quarter after completion of participation in E&T;

• The median quarterly earnings of all the E&T participants and former participants who are in unsubsidized employment during the second quarter after completion of participation in E&T; and

• The number and percentage of participants that completed a training, educational, work experience or an on-the-job training component.

What additional reporting measures does Section 4022(a)(2) of the Agricultural Act of 2014 require that State agencies include in their E&T plans?

Section 4022(a)(2) amended section 16(h)(5)(B)(ii) of the FNA to require each State agency's E&T plan to identify appropriate reporting measures for each proposed component that serves a threshold number of participants of at least 100 per year. State agencies will report the outcome data in their annual reports to FNS. The Department has adopted 100 per year because this is consistent with the minimum in the Agricultural Act of 2014. The Department is particularly interested in receiving comments about the reporting measures themselves, as well as the appropriateness of this threshold.

Because State agencies have broad flexibility in what E&T components they offer and how they structure their activities, the Department is not prescribing national reporting measures for specific components. Instead, the Department encourages State agencies, in designing their E&T component measures, consider the measures that are suggested in the Agricultural Act of 2014, which may include:

• The percentage and number of program participants who received E&T services and are in unsubsidized employment subsequent to the receipt of those services;

• The percentage and number of participants who obtain a recognized credential, including a registered apprenticeship, or a regular secondary school diploma or its recognized equivalent, while participating in, or within 1 year after receiving, E&T services;

• The percentage and number of participants who are in an education or training program that is intended to lead to a recognized credential, including a registered apprenticeship or on-the-job training program, a regular secondary school diploma or its recognized equivalent, or unsubsidized employment;

• Measures developed by each State agency to assess the skills acquisition of employment and training program participants that reflect the goals of the specific employment and training program components of the State agency, which may include:

○ The percentage and number of participants who are meeting program requirements in each component of the education and training program of the State agency;

○ The percentage and number of participants who are gaining skills likely to lead to employment as measured through testing, quantitative or qualitative assessment, or other method; and

○ The percentage and number of participants who do not comply with employment and training requirements and who are ineligible under section 6(b); and

○ Other indicators approved by the Secretary.

Is the Department required to approve State agencies' reporting measures for each component?

Yes. FNS will work with State agencies to identify appropriate reporting measures for each component. State agencies must include the reporting measures for individual components in their E&T plans, which must be submitted and approved by FNS on an annual basis.

Will State agencies be required to report additional information on the characteristics of SNAP E&T participants?

The SNAP work registrant population, like the general SNAP population, is very diverse and faces a myriad of challenges to employment, such as measurable educational attainment and employment history, or intangibles such as substance abuse or mental health problems. The Department is interested in understanding the effectiveness of certain approaches with populations facing different barriers; however, this can be difficult to ascertain given that the complex nature of these challenges.

The Department believes that to have a better understanding of the effectiveness of SNAP E&T it must have a more complete picture of the population it is serving. The Department has very little detailed information on the characteristics of SNAP E&T participants. There are no existing reporting requirements or other mechanisms to collect this information. Therefore, in order to better serve SNAP E&T participants, this rule requires State agencies to report the following six characteristics for all E&T participants. The report will include the total number and percentage of all E&T participants who:

• Are voluntary vs. mandatory;

• have achieved a high school degree (or GED) prior to being provided with E&T services;

• are ABAWDs;

• speak English as a second language;

• are male vs. female; and

• belong in the following age ranges: 16-17, 18-35, 36-49, 50-59, 60 or older.

For example, if a State had 10,000 E&T participants in a year, 2,000 of which were voluntary and 8,000 mandatory, these numbers would be reported along with the 20 and 80 percentages. State agencies currently collect most of this information as part of the application and it should be available through their eligibility systems or SNAP E&T tracking systems. This will not require additional reporting on the part of the SNAP recipient.

Section 16(h)(5)(B)(ii) of the FNA, as amended by the Agricultural Act of 2014, requires that the national reporting measures developed by the Department include additional indicators that reflect the challenges facing the types of members of households participating in SNAP who participate in a specific employment and training component. What are these indicators and for which SNAP E&T participants must State agencies report these indicators?

Of the above six characteristics required to be reported of all SNAP E&T participants, the Department has identified three that it believes are most important to understanding the challenges to employment faced by those SNAP E&T participants and former participants who are included in the four national reporting measures described above. These characteristics are: Voluntary or mandatory participation in E&T, those with low education attainment, and those who are ABAWDs. A participant may have more than one characteristic (e.g., may be a voluntary participant who is also an ABAWD). The Department believes obtaining data on those participants and former participants included in the national reporting measures who have these three characteristics is critical to the development of effective strategies to serve these populations. Therefore, the rule requires that for each national reporting measure States must submit summary data that disaggregate the four national measures by the following three characteristics.

• Individuals who are or were voluntary vs. mandatory participants;

• participants having achieved a high school degree (or GED) prior to being provided with E&T services; and

• participants who are or were ABAWDs;

Thus, to illustrate, States will be required to report the total number and percentage of E&T participants and former participants in unsubsidized employment during Q2 after participation in E&T and the number and percentage of those participants who were mandatory and voluntary. If the State had 1,000 out of 10,000 E&T participants and former participants employed in the second quarter following completion of E&T (10 percent) and of the 1,000, 300 were voluntary and 700 were mandatory, these numbers would be reported along with the percentages.

Furthermore, in addition to reporting the median quarterly earnings of all the E&T participants and former participants, States will be required to report this outcome measure for the following subgroups: Voluntary participants, mandatory participants, those who have achieved a high school degree (or GED) prior to being provided with E&T services, and ABAWDs.

Are the SNAP E&T reporting measures based on the performance indicators for core workforce programs included in WIOA?

WIOA established primary indicators of performance for the core programs related to employment, earnings, credential attainment/measureable skills gains as they relate to gaining/retaining employment, and serving employers. The SNAP E&T reporting measures required by this rule are closely aligned with, but not identical to, those in WIOA. The variations can be attributed to: (1) Difference in the required frequency of reporting (the Agricultural Act of 2014 requires a single annual report whereas the WIOA proposed regulations would require quarterly reports and an annual report); (2) difference in data needs; and (3) seeking a balance between value of information obtained and the burden of longer term tracking. FNS does not include a reporting measure for the effectiveness of serving employers or the number of participants that obtain credentials, in part because DOL and Department of Education are still in the process of developing this policy. In addition, because State agencies have broad flexibility in what E&T components they offer and how they structure their activities, the Department is not prescribing national reporting measures for specific components, like the percentage and number of participants who obtain a recognized credential, but the Department encourages State Agencies to consider such measures as described in

“What additional reporting measures does Section 4022(a)(2) of the Agricultural Act of 2014 require that State agencies include in their E&T plans?”

DOL published proposed regulations regarding WIOA in the “Workforce Innovation and Opportunity Act; Joint Rule for Unified and Combined State Plans, Performance Accountability, and the One-Stop System Joint Provisions” proposed rule on April 16, 2015. The Department views DOL as the leader in employment policy and will look for ways to be consistent with any changes made to its performance measures in the final E&T rulemaking. The Department is interested in comments pertaining to the variance between the WIOA performance indicators and the SNAP E&T reporting measures.

What will the Department do with the reported data?

The Department will use outcome data to monitor the effectiveness of SNAP E&T programs. The Department will also share this information with policy makers, State agencies, and other stakeholders. In combination with the current data State agencies report to FNS regarding SNAP E&T, outcome data will help the Department identify E&T programs and components that produce a higher number and percentage of participants that obtain unsubsidized employment. The Department will use the data on median earnings to evaluate the cost-effectiveness of E&T programs and the components States have implemented. The Department will also use this data to assess and identify the most promising practices for State agencies that want to improve their SNAP E&T programs. The Department will use the data on educational attainment in a similar way, while the data regarding the characteristics of E&T participants will help the Department and States better understand the relative challenges different groups face.

How often and what method will State agencies use to report to the Department?

Pursuant to section 16(h)(5)(D) of the FNA, as amended by the Agricultural Act of 2014, this rule requires State agencies to submit an annual report to FNS by January 1 of each year, to include outcome data on the reporting measures outlined above for the Federal fiscal year ending the previous September 30. FNS may specify a standard format for the annual report.

What data and timeframes will an annual report include?

Data will be measured within the fiscal year for which the State agency is reporting using the most recent data available during the reporting period for each measure and additional characteristics for the participants and former participants included in the reporting measures. Therefore, if an individual completed participation in E&T in the fourth quarter of FY 2018, information from the second quarter of FY 2019 concerning their employment would be included in reporting for FY 2019, even if that individual was no longer participating in SNAP.

Reporting for a fiscal year will include the characteristics of each E&T participant that participated in E&T during that fiscal year.

Is there a minimum amount that an individual must earn in a quarter to be included in a reporting measure?

No, there is no minimum amount of earnings from unsubsidized employment in a quarter for an individual to be included in a reporting measure.

What other information must States include in the annual E&T reports?

States that have committed to offering all at-risk ABAWDs a slot in a qualifying activity and have received an additional allocation of funds as specified in 7 CFR 273.7(d)(3) must include in their annual reports the following information:

• The monthly average number of individuals in the State who meet the conditions of § 273.7(d)(3)(i);

• The number of individuals to whom the State offers a position in a program described in § 273.24(a)(3)and (4);

• The number of individuals who participate in such programs; and

• A description of the types of employment and training programs the State agency offered to at-risk ABAWDs, and the availability of those programs throughout the State.

What does the Agricultural Act of 2014 require in terms of monitoring, evaluating and assessing States' E&T programs?

The Agricultural Act of 2014 amended section 16(h)(5)(A) of the FNA to require the Department to monitor SNAP E&T programs and assess their effectiveness in terms of preparing members of households for employment, including the acquisition of basic skills necessary for employment, and increasing the number of household members who obtain and retain employment subsequent to participation in E&T. The Agricultural Act of 2014 also amended section 16(h)(5)(C) of the FNA to require that the Department evaluate State agencies' E&T programs on a periodic basis to ensure:

• Compliance with Federal E&T program rules and regulations;

• that program activities are appropriate to meet the needs of the individuals referred by the State agency to an E&T program component; and

• that reporting measures are appropriate to identify improvements in skills, training, work and experience for participants in an employment and training program component.

How is the Department codifying this provision?

SNAP regulations at 7 CFR 275.3(a) already require FNS to conduct management evaluation (ME) reviews of designated, or “target”, areas of program operation each fiscal year. FNS identifies target areas each year based upon a number of considerations, including recent policy changes, risk to Federal funds, and risk to program access. For example, FNS may identify program access as an area that the regional offices are required to review in every State, and nutrition education as an area to be reviewed on an at-risk basis, as necessary. This affords FNS maximum flexibility to target its resources to those current areas of vulnerability or agency priorities. In past years, FNS has not required its regional offices to perform an ME of each State agency's E&T program; many operate very small job-search only programs. However, FNS has required its regional offices to review E&T programs in States that operate third party matching programs, or that have combined Federal and State budgets over a certain threshold. As part of its general monitoring and oversight responsibilities, FNS will meet the requirement of the FNA by continuing to perform MEs of States' E&T programs, but will also continue to establish in guidance which target areas to focus on each year.

In addition, through its current authority, FNS is required to review and approve State agencies' E&T plans and budgets. Through this process, FNS will ensure that individual components are structured to meet the needs of participants and that the reporting measures for individual components with more than 100 participants, required by this rule, are appropriate to measure the impact of the components on participants.

Does the Department have authority to require modifications to State agencies' E&T programs?

Yes. Section 16(h)(5)(E) of the FNA, as amended by the Agricultural Act of 2014, gives the Department the authority to require a State agency to make modifications to its SNAP E&T plan to improve outcomes if the Department determines that the E&T outcomes are inadequate.

Why are most of the reporting measures focused on program outcomes?

The Government Performance and Results Act of 1993 (GPRA) requires that performance indicators be used to measure the outcome of government programs. The national reporting measures in this rule will provide data that be used to evaluate the effectiveness of E&T programs in moving SNAP recipients toward self-sufficiency.

Additionally, the USDA Office of Inspector General (OIG) performed an audit of the SNAP E&T program and, in its final report, entitled “Food Stamp Employment and Training Program” (OIG #27601-16-At), released April 29, 2008, concluded that the data to evaluate the SNAP E&T program's impact was lacking. The chief recommendation of this audit report was that FNS establish reporting measures for the SNAP E&T program and require State agencies to submit outcome data, which FNS could then use to determine whether the program improves employability and helps participants prepare for or obtain jobs. FNS agrees with this recommendation and, through this rule, is establishing standardized reporting measures that capture the impact of E&T programs. As noted above, FNS will use data to help identify the most effective E&T programs and best practices, and will share this information with State agencies looking to improve or expand their E&T programs.

Do State agencies already have reporting measures and outcome data?

Currently, thirty-six State agencies have reporting measures and report E&T program outcome data in their E&T plans. State agencies use a variety of reporting measures, and the outcome data reported cannot be compared or summarized on a national level. Additionally, other work programs, such as those funded under the Workforce Innovation and Opportunity Act (WIOA) and the Wagner-Peyser Act (WPA), require State agencies to track, collect, and report outcome data. The measures in this rule are designed to be similar to the common measures used by these other work programs. The Department recommends that State agencies consult with State workforce and other agencies on data collection strategies and technical requirements.

For reporting purposes, who is considered an E&T participant?

A SNAP applicant or recipient who is placed in and begins an E&T component is considered a “participant” for reporting purposes. E&T participants who are placed in a component but do not show up for the first training appointment will not be counted in the base of participants for reporting measures. Individuals that complete an E&T component are also considered to be participants for reporting purposes, even if they are no longer participating in SNAP. The Department recognizes that some State agencies provide E&T services to SNAP participants who are under-employed and it does not wish to discourage this practice. As such, State agencies may include E&T participants who are already employed as countable participants, if placed in a component.

Should voluntary participants be counted as well as mandatory participants?

Yes. State agencies must count all E&T participants, both mandatory and voluntary, in the base for reporting measures. The Department recognizes that some State agencies have shifted the focus of their E&T programs to voluntary participants because these participants are often more motivated to work and seek training that will make them more employable. The interim reporting measures will reflect the effectiveness of the program for both mandatory and voluntary participants.

What is meant by unsubsidized employment?

Unsubsidized employment means the E&T participant does not receive wages subsidized by a Federal, State or local government program, such as the TANF subsidized employment program or a SNAP work supplementation program. This is consistent with the definition of unsubsidized employment used by other Federal work programs. Participants who enter unsubsidized employment may still be receiving job retention services such as transportation reimbursements and dependent care.

The definition of unsubsidized employment is not limited to jobs with paid benefits, such as health care coverage. Although the Department recognizes the value of such benefits for SNAP households, it would add complexity to data collection and the Department believes it is not an essential reporting requirement for the purpose of the interim rule.

What is meant by “median” quarterly earnings?

This rule requires that State agencies report the median average quarterly earnings for all E&T participants who had earnings from unsubsidized employment in the second quarter following completion of E&T. Median earnings will capture wage levels, and is consistent with the similar DOL reporting measure under WIOA. The “median” is determined by ranking participants' incomes from lowest to highest and identifying the middle income amount so that there are an equal number of incomes higher and lower. The median income is the amount in the middle—half the income amounts are higher, and half are lower. For example, for three participants earning $1,000, $1,500 and $3,500, the median income is $1,500 even though the average (or mean) would be $2,000. Using the median income can provide a more meaningful measure since it shows the halfway point, rather than the average, which can be significantly influenced by the larger incomes at the top or very small incomes at the bottom of the scale.

Will E&T 100 percent grants be affected by the reported measures data?

No. Outcome data will not affect Federal 100 percent grant funding for E&T programs. However, the Department retains the authority at § 273.7(d)(1)(i)(D) to consider outcome data as part of the scope of impact for a State's E&T program when evaluating requests for additional 100 percent funds.

How may States fund the collection and reporting of outcome data?

State agencies may use E&T administrative funds provided by § 273.7(d)(1) and (2) to pay for development of reporting systems as necessary. E&T administrative funds may also be used to meet staffing requirements that result from reporting measure tracking, the cost of follow-up with E&T participants and other aspects of the measures.

Will the Department consider unemployment rates when evaluating outcome data?

The Department will not factor unemployment rates into the raw outcome data. Reporting measures are meant to reflect whether E&T programs are effective in moving participants toward employment and self-sufficiency. However, the Department will consider unemployment rates together with other important factors when looking at the unique challenges SNAP E&T participants face.

Should State agencies count workfare and work experience as unsubsidized employment?

No. Workfare and work experience are defined as E&T components at section 6(d)(4) of the FNA, and participation in these components is captured in the FNS-583. Currently, many State agencies offer workfare and work experience as E&T components to provide participants with experience or training that will move them promptly into employment. As State agencies already report these activities on the FNS-583 as E&T components, the Department will not consider placement in such activities as unsubsidized employment to be included in the reporting measures.

Will the Department verify this data?

The Department will not verify this information on a regular basis. However, FNS will review data collection methods and verify data as part of the ME review of States' E&T programs. This will help to ensure that reported data is accurate.

Procedural Matters

Executive Orders 12866 and 13563

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility.

This interim rule has been designated a “significant regulatory action,” although not economically significant, under section 3(f) of Executive Order 12866. Accordingly, the rule has been reviewed by the Office of Management and Budget (OMB). Consistent with the requirements of Executive Orders 12866 and 13563, a Regulatory Impact Analysis (RIA) was developed for this interim rule.

Regulatory Impact Analysis

As required for all rules that have been designated as significant by OMB, a RIA was developed for this interim rule. The RIA for this rule was published as part of the docket to this rule on www.regulations.gov. The following summarizes the conclusions of the regulatory impact analysis.

Need for Action: This interim rule implements requirements for State agencies to report outcome data for SNAP E&T programs as mandated by Section 4022(a)(2) of the Agricultural Act of 2014. The interim rule establishes five separate reporting measures and requires State agencies to report annually outcome data to monitor the effectiveness of E&T programs.

State agencies are also required to identify appropriate reporting measures for each proposed component that serves a threshold number of participants of at least 100 a year. The reporting measures for these components will be identified in State agencies' E&T plans and the outcome data will be reported to FNS in State agencies' annual reports.

Benefits: Benefits of this action include better data to inform policy makers regarding means to improve E&T effectiveness, ultimately benefiting SNAP E&T participants. National reporting measures will allow State and Federal program managers and policy makers to strategically plan on program tactics that will result in improved employment outcomes. Uniform reporting measures for E&T programs will potentially benefit SNAP applicants and recipients by providing data to help evaluate what works in SNAP E&T and share best practices from those programs.

Costs: FNS estimates that the costs will include one-time capital costs for developing new or modifying existing data collection systems for E&T programs, additional reporting burden for collecting and reporting data for the required reporting measures, and, for those States that need to develop new systems, annual operating and maintenance costs for those systems. FNS anticipates minimal burden to a small number of low-income families and minimal, if any, impact on program participation. FNS anticipates that some costs will be paid for using the existing federal grant money States receive to operate E&T. State funds spent in excess of the grant are reimbursed at a 50 percent rate by the Federal government.

Effect on State Agencies: The Department has estimated that the effect on State agencies will be two-fold: First, a one-time capital cost for developing new or modifying existing data collection systems for E&T programs; and second, a reporting burden for collecting and reporting data for the required outcome measures. Those States that need to develop new systems may also incur annual operating and maintenance costs.

Thirty-six State agencies currently have reporting measures and collect outcome data. However, the interim rule requires the addition of several data elements that none of these States are currently collecting.

While it is expected that, in the first-year, State agencies will expend time and effort to establish reporting systems, the ongoing burden as shown below in the Paperwork Reduction Act section of the preamble is relatively moderate—about one and one-half staff-month per State.

Effect on Low-Income Families: Establishing reporting requirements that measure E&T outcomes will ultimately allow State agencies to better serve low-income populations by providing them with E&T services that lead to longer-term unsubsidized employment opportunities. In addition, the Department estimates that the burden of the rule on low-income families will be minimal. A small number of E&T participants may face additional reporting burden due to the need to contact these individuals to track outcomes that are not available through existing data sources.

Participation Impacts: The Department estimates that the impact on SNAP participation will be minimal. Establishing reporting requirements that measure E&T outcomes will allow State agencies to better serve low-income populations by providing them with E&T services that lead to longer-term unsubsidized employment opportunities.

Civil Rights Impact Analysis

The Department has reviewed this interim rule in accordance with Departmental Regulation 4300-4, “Civil Rights Impact Analysis,” to identify any requirements that may have the purpose or effect of excluding, limiting, or otherwise disadvantaging any group or class of persons on one or more prohibited bases. After careful review of the rule's intent and provisions, and the characteristics of SNAP households and individual participants, the Department has determined that this rule will not have a disparate impact on any group or class of persons. The interim rule will require State agencies to collect and report outcome data on SNAP E&T programs and will not change work requirements or impact the population subject to work requirements. The Department specifically prohibits the State and local government agencies that administer the Program from engaging in actions that discriminate based on race, color, national origin, sex, religious creed, age, disability, and political beliefs. SNAP's nondiscrimination policy can be found at 7 CFR 272.6(a). The interim rule does not change these requirements.

Regulatory Flexibility Act

The Regulatory Flexibility Act (5 U.S.C. 601-612) requires agencies to analyze the impact of rulemaking on small entities and consider alternatives that will minimize any significant impacts on small entities. Pursuant to that review, it is certified that this interim rule will not have a significant impact on small entities. The provisions of this interim rule apply to State agencies, which are not small entities as defined by the Regulatory Flexibility Act.

Unfunded Mandates Reform Act

Title II of the Unfunded Mandates Reform Act of 1995 (UMRA), Public Law 104-4, establishes requirements for Federal agencies to assess the effects of their regulatory actions on State, local, tribal governments and the private sector. Under Section 202 of the UMRA, the Department generally must prepare a written statement, including a cost/benefit analysis, for rules with Federal mandates that may result in expenditures to State, local, or tribal governments in the aggregate, or to the private sector, of $100 million or more in any one year. When such a statement is needed for a rule, Section 205 of the UMRA generally requires the Department to identify and consider a reasonable number of regulatory alternatives and adopt the least costly, more cost-effective or least burdensome alternative that achieves the objectives of the rule.

This interim rule contains no Federal mandates (under the regulatory provisions of Title II of the UMRA) for State, local and tribal governments or the private sector of $100 million or more in any one year. Thus, the rule is not subject to the requirements of sections 202 and 205 of the UMRA.

Executive Order 12372

SNAP is listed in the Catalog of Federal Domestic Assistance under No. 10.551. For the reasons set forth in the final rule in 7 CFR 3015, Subpart V and related Notice (48 FR 29115), the Program is included in the scope of Executive Order 12372, which requires intergovernmental consultation with State and local officials.

Federalism Impact Statement

Executive Order 13132, requires Federal agencies to consider the impact of their regulatory actions. Where such actions have federalism implications, agencies are directed to provide a statement for inclusion in the preamble to the regulations describing the agency's considerations in terms of the three categories called for under section (6)(b)(2)(B) of the Executive Order 13132. This rule does not have Federalism impacts.

Prior Consultation With State Officials

Currently, the Department, through FNS, has encouraged State agencies to establish reporting measures and to report outcome data in their State E&T plans. FNS informally consulted with State agencies to identify what E&T reporting measures and outcome data they collect in the absence of required reporting measures. An informal review of State agencies in FY 2007 showed that twenty-three State agencies had reporting measures and gathered outcome data on the number of E&T participants who entered employment. This review revealed wide variability in how State agencies' aggregate data, how employment was defined, and whether a direct link to participation in E&T was established. FNS reviewed FY 2013 State agency E&T plans and found that thirty-six State agencies track the number of E&T participants that enter employment. The interim rule will standardize the reporting measures that State agencies use and what outcome data State agencies report.

Nature of Concerns and the Need To Issue This Rule

As modified by the Agricultural Act of 2014, section 16(h)(5) of the FNA requires that the Department monitor SNAP E&T programs and measure their effectiveness. In addition, the Government Performance and Results Act of 1993 (GPRA) requires that performance indicators be used to measure the outcome of government programs. Finally, a 2008 audit by the USDA Office of Inspector General (OIG) found that FNS had sufficient systems in place to monitor State agency compliance and administration with laws and regulations, but recommended FNS establish reporting measures for the SNAP E&T program and require State agencies to submit outcome data to determine the Program's effectiveness.

This rule establishes standardized reporting measures and requires State agencies to report outcome data for the SNAP E&T program. The Department published a proposed rule establishing performance measures in 1991 (FR 43152, August 30, 1991). At that time, many State agencies and advocates responded that the rule would impose an unreasonable burden on State agencies. The Department did not codify that proposed rule. While State agencies may have similar concerns today, other Federal work programs, such as the Workforce Innovation and Opportunity Act (WIOA) and the Wagner-Peyser Act (WPA), have established standardized performance indicators and State workforce investment boards have more experience tracking entered employment, retention and earnings. By implementing Section 16(h)(5) of the FNA, the Department is following the lead of other Federal agencies and establishing standardized reporting measures and requiring State agencies to report outcome data in order to evaluate the effectiveness of E&T programs.

Extent to Which We Met Those Concerns

The Department has considered the impact of the interim rule on State and local agencies. This rule will implement reporting measures that are required by law and require the reporting of outcome data. The provisions in this rule are similar to the current practice of at least thirty-six State agencies. FNS will work with the remaining State agencies to provide guidance and technical assistance in meeting the requirements of this rule.

Executive Order 13175—Consultation and Coordination With Indian Tribal Governments

This rule has been reviewed in accordance with the requirements of Executive Order 13175, “Consultation and Coordination with Indian Tribal Governments.” Executive Order 13175 requires Federal agencies to consult and coordinate with tribes on a government-to-government basis on policies that have tribal implications, including regulations, legislative comments or proposed legislation, and other policy statements or actions that have substantial direct effects on one or more Indian tribes, on the relationship between the Federal Government and Indian tribes or on the distribution of power and responsibilities between the Federal Government and Indian tribes.

Currently, only two State SNAP E&T programs include partnerships or activities with Tribal organizations. On February 29, 2012, during a Tribal consultation, the Department explained the existing section 16(h)(5) of the FNA which required the Department to monitor and measure the effectiveness of E&T programs, and FNS's intention to write a proposed rule on E&T reporting measures and the reporting of outcome data. The Department invited Tribal officials or their designees to ask questions about the impact of a proposed rule on Tribal governments, communities, and individuals. The Department did not receive any comments or questions on its intention to write that rule. (Subsequently, the Agricultural Act of 2014 passed, which expanded the requirements and authority under section 16(h)(5) of the FNA, and included a requirement that the Department publish an interim rule identifying national reporting measures.) This session established a baseline of consultation for future actions, should any be necessary, regarding this rule. Reports from the Tribal consultation session will be made part of the Department's annual reporting on Tribal Consultation and Collaboration. The Department will provide additional venues, such as webinars and teleconferences, to periodically host collaborative conversations with Tribal leaders and their representatives concerning ways to improve this rule in Indian country. FNS has assessed the impact of this rule on Indian tribes and determined that this rule has tribal implications that require tribal consultation under E.O. 13175 and has consulted with Tribes as described above. If a Tribe requests consultation, FNS will work with the Office of Tribal Relations to ensure meaningful consultation is provided where changes, additions and modifications identified herein are not expressly mandated by Congress.

Executive Order 12988

This rule has been reviewed under Executive Order 12988, Civil Justice Reform. This rule is intended to have preemptive effect with respect to any State or local laws, regulations or policies that conflict with its provisions or that will otherwise impede its full implementation. This rule is not intended to have retroactive effect unless so specified in the “Effective Date” paragraph of this rule. Prior to any judicial challenge to the provisions of this rule or the application of its provisions, all applicable administrative procedures must be exhausted.

E-Government Act Compliance

The Department is committed to complying with the E-Government Act, to promote the use of the Internet and other information technologies to provide increased opportunities for citizen access to Government information and services, and for other purposes.

Paperwork Reduction Act

The Paperwork Reduction Act of 1995 (44 U.S.C. Chapter 35; see 5 CFR part 1320) requires that OMB approve all collections of information by a Federal agency from the public before they can be implemented. Respondents are not required to respond to any collection of information unless it displays a current valid OMB control number. This interim rule contains new provisions that will affect reporting and recordkeeping burdens. Section 271.8 has been amended to reflect the new reporting requirements. The changes in burden that will result from the provisions in the interim rule are described below, and are subject to review and approval by OMB. When the information collection requirements have been approved, the Department will publish a separate action in the Federal Register announcing OMB's approval.

Written comments on the information collection in this interim rule must be received by May 23, 2016. Comments are invited on: (1) Whether the collection of information is necessary for the proper performance of the Agency's functions, including whether the information will have practical utility; (2) the accuracy of the Agency's estimate of the information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Moira Johnston, at the address listed in the ADDRESSES section of this preamble. Comments will also be accepted through the Federal eRulemaking Portal. Go to http://www.regulations.gov, and follow the online instructions for submitting comments electronically. For further information, or for copies of the information collection requirements, please contact Ms. Johnston.

All responses to this request for comments will be summarized and included in the request for OMB approval. All comments will also become a matter of public record.

Title: SNAP: Employment and Training Program Monitoring, Oversight and Reporting Measures.

OMB Number: [0584—NEW].

Expiration Date: Not Yet Determined.

Type of Request: New Collection.

Abstract: As required by the Paperwork Reduction Act of 1995 (44 U.S.C. 3507(d)), FNS is submitting this information collection to OMB for its review. The interim rule will require State agencies to collect and report information on: (1) The number and percentage of E&T participants who are in unsubsidized employment during the second quarter after completion of participation in E&T; (2) The number and percentage of E&T participants who are in unsubsidized employment during the fourth quarter after completion of participation in E&T; (3) Median quarterly earnings of all E&T participants who worked in unsubsidized employment during the second quarter after completion of participation in E&T; (4) The total number and percentage of participants that complete a training, educational, work experience or an on-the-job training component; and (5) certain unique characteristics of SNAP E&T participants that will provide information on the challenges they face in obtaining employment.

The rule also requires State agencies to identify appropriate reporting measures for each proposed component that serves a threshold number of participants of at least 100 a year. The reporting measures for each component will be identified in States' E&T plans and the outcome data will be reported to FNS in their annual reports. Additionally, the rule requires that State agencies that have committed to offering all ABAWDs at risk of losing eligibility due to time-limited participation a slot in a qualifying activity and have received an additional allocation of funds, to report information regarding the use of those funds.

Respondents: The 53 State agencies that administer the SNAP E&T program.

Estimated Number of Responses per Respondent: One response per year for each State agency that administers the SNAP E&T program. States agencies will be required to report their outcome data annually.

Current status: Thirty-six State agencies currently identify reporting measures and collect outcome data. However, the interim rule requires the addition of several data elements that these State agencies are not currently collecting. While the Department believes that some of these State agencies may continue to use the systems they already have in place with modifications to meet the provisions of this rule, others may decide to implement new systems to meet the increase in data that is required to be reported to FNS. The remaining 17 State agencies that do not have reporting measures in place will all need to develop systems to collect and report the required data. In the first year that the rule is published, State agencies will need to develop E&T data collection systems, reprogram existing systems, build interfaces between SNAP eligibility and SNAP E&T data collection systems and decide what data will be collected manually.

Effect on State Agencies: The Department has estimated that the effect on State Agencies will be two-fold: First, a one-time capital cost for developing new or modifying existing data collection systems for E&T programs; and second, a reporting burden for collecting and reporting data for the required reporting measures. Those States that need to develop new systems may also incur annual operating and maintenance costs.

Prior to implementation: In the first year that the rule is published, States may develop new SNAP E&T systems, reprogram existing systems, build interfaces between SNAP eligibility and SNAP E&T systems, and/or decide what data will be collected manually. For several of the measures (e.g., employment, earnings, characteristics of E&T participants) State agencies' could use a variety of sources to obtain administrative data, such as SNAP automated eligibility systems. The Department anticipates that some State agencies will rely on government entities with which they already have agreements and will need to renegotiate those agreements.

Given the different size and complexity of States' E&T programs, variations in their E&T data systems, capabilities of their SNAP eligibility systems, and experience with reporting measures, it is not possible to develop a reliable estimate of the burden this rule places on State agencies to implement. Because of the uncertainties surrounding the exact methods States will use to collect and submit outcome data, we are requesting that States comment specifically on their potential capital start-up and operating and maintenance costs based upon consultation with potential data sources. After internal discussions with FNS regional office and State systems staff, FNS assumes an estimate of three staff-months (520 hours) per State to establish data collection and reporting systems to implement this rule, at a cost of approximately $1.2 million. This estimate of initial burden is a placeholder until FNS receives comments from States on their estimate of the time it will take to implement.

Estimated Initial Reporting and Recordkeeping Burden Hours
Description of activity | Number of respondents | Total annual responses | Number of burden hours per response | Total burden hours
One-time capital start-up and operating and maintenance costs | 53 | 53 | 520 | 27,560

Annual ongoing burden from rule: While it is expected that in the first year State agencies will expend more time and effort to establish reporting systems, the ongoing burden as shown below is relatively moderate—about one and one half staff-month per State. The following estimates assume that State agencies will use a combination of methods to collect the data including existing automated systems data, new data collection, and some contact with SNAP E&T participants. In the regulatory impact analysis accompanying this rule, FNS estimates that the ongoing additional time burden will average no more than about 231 hours annually per State (about one and a half staff-months) on average (12,233 hours per year for all States), or less than $1 million in total. The breakdown of the 231 hours is itemized in the table below. FNS believes this estimate may be somewhat high since data that can be collected through automated data systems is expected to require less time than data collected through direct contact with SNAP E&T participants.

Estimated Ongoing Reporting and Recordkeeping Burden Hours
Regulation section | Description of activity | Number of respondents | Annual report/record filed | Total annual responses | Average burden hours per response | Total burden hours
272.1(f) Recordkeeping |  | 53 | 1 | 53 | 1 | 53
273.7(c)(17)(i) Reporting | E&T participants who have earnings in the second quarter after completion of E&T | 53 | 1 | 53 | 40 | 2,120
273.7(c)(17)(ii) Reporting | E&T participants who have earnings in the fourth quarter after completion of E&T | 53 | 1 | 53 | 40 | 2,120
273.7(c)(17)(iii) Reporting | Median quarterly earnings | 53 | 1 | 53 | 40 | 2,120
273.7(c)(17)(iv) Reporting | E&T participants that completed a training, educational, work experience or an on-the-job training component within 6 months after completion of participation in E&T | 45 | 1 | 45 | 80 | 3,600
273.7(c)(17)(v) & (vi) Reporting | Characteristics of E&T participants, some broken out by 4 above measures | 53 | 1 | 53 | 20 | 1,060
273.7(c)(17)(vii) Reporting | Measures in a State agencies' E&T plan for components that are designed to serve at least 100 E&T participants a year | 53 | 1 | 53 | 20 | 1,060
273.7(c)(17)(viii) Reporting | Information about ABAWDs from State agencies that have committed to offering them participation in a qualifying activity | 10 | 1 | 10 | 10 | 100
Total Reporting |  | 53 | 7 | 320 | 38 | 12,180
Total Recordkeeping |  | 53 | 1 | 53 | 1 | 53

Summary of Ongoing Burden (In Addition to OMB #0584—New) 7 CFR 273
Total No. Respondents | 53
Average No. Responses per Respondent | 7
Total Annual Responses | 373
Average Hours per Response | 32.8
Total Burden Hours for Part 273 With Interim Rule | 12,233

In addition to potential capital start-up and operating and maintenance costs, we are requesting that States comment specifically on our burden estimates.

List of Subjects

7 CFR Part 271

Food stamps, Grant programs—social programs, Reporting and recordkeeping requirements.

7 CFR Part 273

Administrative practice and procedure, Aliens, Claims, Education and employment, Fraud, Grant programs—social programs, Reporting and recordkeeping requirements, Supplemental Nutrition Assistance Program.

For reasons set forth in the preamble, 7 CFR parts 271 and 273 are amended as follows:

1. The authority citation for 7 CFR parts 271 and 273 continues to read as follows:

Authority: 7 U.S.C. 2011-2036.

PART 271—GENERAL INFORMATION AND DEFINITIONS

2. In § 271.8, amend the table by adding an entry for § 273.7(c)(16) in alphanumeric order to read as follows:

§ 271.8 Information collection/recordkeeping—OMB assigned control numbers.

7 CFR section where requirements are described | Current OMB Control No.
* * * * *
273.7(c)(16) | 0584—New.
* * * * *

PART 273—CERTIFICATION OF ELIGIBLE HOUSEHOLDS

3. Amend § 273.7 as follows:

a. Add paragraph (c)(6)(xvii); and

b. Add paragraphs (c)(16) and (17).

The additions read as follows:

§ 273.7 Work provisions.

* * * * *

(c) * * *

(6) * * *

(xvii) For each component that is expected to include 100 or more participants, reporting measures that the State will collect and include in the annual report in paragraph (c)(17) of this section. Such measures may include:

(A) The percentage and number of program participants who received E&T services and are in unsubsidized employment subsequent to the receipt of those services;

(B) The percentage and number of participants who obtain a recognized credential, a registered apprenticeship, or a regular secondary school diploma (or its recognized equivalent), while participating in, or within 1 year after receiving E&T services;

(C) The percentage and number of participants who are in an education or training program that is intended to lead to a recognized credential, a registered apprenticeship an on-the-job training program, a regular secondary school diploma (or its recognized equivalent), or unsubsidized employment;

(D) Measures developed to assess the skills acquisition of E&T program participants that reflect the goals of the specific components including the percentage and number of participants who are meeting program requirements or are gaining skills likely to lead to employment; and

(E) Other indicators approved by FNS in the E&T State plan.

* * * * *

(16) FNS may require a State agency to make modifications to its SNAP E&T plan to improve outcomes if FNS determines that the E&T outcomes are inadequate.

(17) The State agency shall submit an annual E&T report by January 1 each year that contains the following information for the Federal fiscal year ending the preceding September 30.

(i) The number and percentage of E&T participants and former participants who are in unsubsidized employment during the second quarter after completion of participation in E&T.

(ii) The number and percentage of E&T participants and former participants who are in unsubsidized employment during the fourth quarter after completion of participation in E&T.

(iii) Median average quarterly earnings of the E&T participants and former participants who are in unsubsidized employment during the second quarter after completion of participation in E&T.

(iv) The total number and percentage of participants that completed an educational, training work experience or an on-the-job training component.

(v) The number and percentage of E&T participants who:

(A) Are voluntary vs. mandatory participants;

(B) Have received a high school degree (or GED) prior to being provided with E&T services;

(C) Are ABAWDs;

(D) Speak English as a second language;

(E) Are male vs. female

(F) Are within each of the following age ranges: 16-17, 18-35, 36-49, 50-59, 60 or older.

(vi) Of the number and percentage of E&T participants reported in paragraphs (c)(17)(i) through (iv) of this section, a disaggregation of the number and percentage of those participants and former participants by the characteristics listed in paragraphs (c)(17)(v)(A), (B), and (C) of this section.

(vii) Reports for the measures identified in a State's E&T plan related to components that are designed to serve at least 100 participants a year; and

(viii) States that have committed to offering all at-risk ABAWDs participation in a qualifying activity and have received an additional allocation of funds as specified in § 273.7(d)(3) shall include:

(A) The monthly average number of individuals in the State who meet the conditions of § 273.7(d)(3)(i);

(B) The monthly average number of individuals to whom the State offers a position in a program described in § 273.24(a)(3) and (4);

(C) The monthly average number of individuals who participate in such programs; and

(D) A description of the types of employment and training programs the State agency offered to at risk ABAWDs and the availability of those programs throughout the State.

(ix) States may be required to submit the annual report in a standardized format based upon guidance issued by FNS.

* * * * *

Dated: March 18, 2016.
Kevin Concannon,
Under Secretary, Food, Nutrition, and Consumer Services.

[FR Doc. 2016-06549 Filed 3-23-16; 8:45 am]

BILLING CODE 3410-30-P